DEPARTMENT OF TRANSPORTATION

Surface Transportation Board

[Docket No. FD 35696]

Michigan Southern Railroad Company—Acquisition and Operation Exemption—RMW Ventures, LLC and Maumee & Western Railroad Corporation

Michigan Southern Railroad Company (MSO), a Class III rail carrier, has filed a verified notice of exemption under 49 CFR 1150.41 to acquire and operate an approximately 51-mile rail line between milepost 79.0, near Woodburn, Ind. and milepost TN-28.0 near Liberty Center, Ohio. MSO has reached an agreement for the transaction with RMW Ventures, LLC, which owns the line,¹ and with Maumee & Western Railroad Corporation, which operates the line.² MSO states that the agreement does not contain a provision that would limit future interchange with a third-party connecting carrier.

¹ RMW Ventures, L.L.C.—Corporate Family Transaction Exemption—C & NC, L.L.C., Maumee & W., L.L.C., & Wabash Cent., L.L.C., FD 33541 (STB served Mar. 10, 1998).

² Maumee & W. R.R.—Operation Exemption—Maumee & W., L.L.C., FD 33535 (STB served Jan. 16, 1998).

The transaction may not be consummated prior to December 28, 2012 (30 days after the notice of exemption was filed).

MSO certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than December 21, 2012 (at least seven days before the exemption becomes effective).

An original and 10 copies of all pleadings, referring to Docket No. FD 35696, must be filed with the Surface Transportation Board, 395 E Street SW., Washington, DC 20423-0001. In addition, a copy of each pleading must be served on Daniel A. LaKemper, General Counsel, Michigan Southern Railroad Company, 1318 S. Johanson Road, Peoria, IL 61607.

Board decisions and notices are available on our Web site at “www.stb.dot.gov”.

Decided: December 11, 2012.
By the Board, Rachel D. Campbell, Director, Office of Proceedings.
Jeffrey Herzig,
Clearance Clerk.

[FR Doc. 2012-30192 Filed 12-13-12; 8:45 am]

BILLING CODE 4915-01-P